DEPARTMENT OF COMMERCE

National Oceanic and Atmospheric Administration

[I.D. 092004C]

Endangered Species; File No. 1446

AGENCY: National Marine Fisheries Service (NMFS), National Oceanic and Atmospheric Administration (NOAA), Commerce.

ACTION: Issuance of permit.

SUMMARY: Notice is hereby given that North Carolina Division of Marine Fisheries, P.O. Box 769, Morehead City, NC, has been issued a permit to take loggerhead (Caretta caretta), green (Chelonia mydas), hawksbill (Eretmochelys imbricata), Kemp's ridley (Lepidochelys kempii), and leatherback (Dermochelys coriacea) sea turtles for purposes of scientific research.

ADDRESSES: The permit and related documents are available for review upon written request or by appointment in the following offices:

Permits, Conservation and Education Division, Office of Protected Resources, NMFS, 1315 East-West Highway, Room 13705, Silver Spring, MD 20910; phone (301)713-2289; fax (301)713-0376; and

Southeast Region, NMFS, 9721 Executive Center Drive North, St. Petersburg, FL 33702-2432; phone (727)570-5301; fax (727)570-5320.

FOR FURTHER INFORMATION CONTACT: Carrie Hubard or Patrick Opay, (301)713-2289.

SUPPLEMENTARY INFORMATION: On September 3, 2003 notice was published in the Federal Register (68 FR 52387) that a request for a scientific research permit to take loggerhead, green, hawksbill, Kemp's ridley, and leatherback sea turtles had been submitted by the above-named organization. The requested permit has been issued under the authority of the Endangered Species Act of 1973, as amended (ESA; 16 U.S.C. 1531 et seq.) and the regulations governing the taking, importing, and exporting of endangered and threatened species (50 CFR parts 222-226).

Researchers will capture sea turtles using two different kinds of gillnets. Captured turtles will be identified to species, measured, photographed, and flipper and passive integrated transponder (PIT) tagged. The primary objective of the research is to identify gillnet types that will reduce the number of sea turtle interactions, while maintaining targeted catch of the commercial fishery. One modified gillnet design will be evaluated during this study with a traditional flounder gillnet used as a control. Of the captured turtles, nine of the Kemp's/loggerhead/green turtle aggregate, one hawksbill and one leatherback may be mortalities. This technology may prove transferable to other fisheries within North Carolina and the east coast. NMFS proposes to authorize these activities until December 31, 2004.

Issuance of this permit, as required by the ESA, was based on a finding that such permit (1) was applied for in good faith, (2) will not operate to the disadvantage of the endangered and threatened species which are the subject of this permit, and (3) is consistent with the purposes and policies set forth in section 2 of the ESA.

Dated: September 21, 2004.
Tammy C. Adams,
Acting Chief, Permits, Conservation and Education Division, Office of Protected Resources, National Marine Fisheries Service.

[FR Doc. 04-21598 Filed 9-24-04; 8:45 am]

BILLING CODE 3510-22-S